DEPARTMENT OF JUSTICE

Antitrust Division

Notice Pursuant to the National Cooperative Research and Production Act of 1993—Open Mobile Alliance

Notice is hereby given that, on July 6, 2015, pursuant to Section 6(a) of the National Cooperative Research and Production Act of 1993, 15 U.S.C. 4301 et seq. (“the Act”), Open Mobile Alliance (“OMA”) has filed written notifications simultaneously with the Attorney General and the Federal Trade Commission disclosing changes in its membership. The notifications were filed for the purpose of extending the Act's provisions limiting the recovery of antitrust plaintiffs to actual damages under specified circumstances. Specifically, Asurion LLC, San Mateo, CA; Augmate Corporation, New York, NY; AVSystem, Kraków, POLAND; China Academy of Telecommunication, Beijing, PEOPLE'S REPUBLIC OF CHINA; flo Data LTD, London, UNITED KINGDOM; HaoLianShiDai (Beijing), Beijing, PEOPLE'S REPUBLIC OF CHINA; Imagination Technologies Limited, Herts, UNITED KINGDOM; Jasper Technologies, Santa Clara, CA; Mobile Tornado Group PLC, Afek Park, ISRAEL; Netcomm Wireless Limited, Sydney, AUSTRALIA; Nextiva, Scottsdale, AZ; Redstone Sunshine (Beijing) Technology Co., Ltd., Beijing, PEOPLE'S REPUBLIC OF CHINA; Reliance Jio Infocomm Limited, Navi Mumbai, INDIA; Sierra Wireless, Richmond, CANADA; Skylink Design Inc., Pleasanton, CA; Sonim Technologies, Bangalore, INDIA; Symantec, Culver City, CA; TA Technology (Shanghai) Co., Ltd., Shanghai, PEOPLE'S REPUBLIC OF CHINA; Tenggle Technologies, Beijing, PEOPLE'S REPUBLIC OF CHINA; Tile Data Processing Inc., Montreal, CANADA; u-blox AG, Thalwil, SWITZERLAND; Vuzix Corporation, Rochester, NY; and Zebra Technologies Corporation, Chicago, IL; have been added as parties to this venture.

Also, BlackBerry Limited, Waterloo, CANADA; castLabs GmbH, Berlin, GERMANY; Cellebrite, Petah Tikva, ISRAEL; CETECOM GmbH, Essen, GERMANY; Cisco Systems Inc., San Jose, CA; Cybage Software Private Limited, Pune, INDIA; Digicert SSL Certificate Authority, Lindon, UT; Fraunhofer Gesellschaft e.V., Erlangen, GERMANY; General Dynamics Broadband UK, Chippenham, UNITED KINGDOM; iYogi Inc., New York, NY; Kochar Infotech, Amritsa, INDIA; LG Electronics Inc., Seoul, REPUBLIC OF KOREA; Logos Solvo Ltd., Ebène, MAURITIUS; Masang Soft., Inc., Seoul, REPUBLIC OF KOREA; Metaswitch Networks Ltd., Enfield, UNITED KINGDOM; Morpho Cards GmbH, Paderborn, GERMANY; Rogers Wireless Inc., Toronto, CANADA; Scanbuy, Inc., New York, NY; setcom wireless products GmbH, Munich, GERMANY; Solaiemes, Madrid, SPAIN; Sony Mobile Communications AB, Stockholm, SWEDEN; Stream Communications, Glagow, UNITED KINGDOM; Synthesis AG, Zurich, SWITZERLAND; Telefonica S.A., Madrid, SPAIN; Telular, Chicago, IL; Thales, Toulouse, FRANCE; and Wistron Corporation, New Taipei City, TAIWAN have withdrawn as parties to this venture.

The following members have changed their names: Bluefish Technologies Holdings APD to Bluefish Technologies Europe A/S., Birkerod, DENMARK; and Zeebric, Inc. to Qliktag Software, Inc., Newport Beach, CA.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 7233).

The last notification was filed with the Department on July 8, 2014. A notice was published in the Federal Register pursuant to Section 6(b) of the Act on August 8, 2014 (79 FR 46452).

Patricia A. Brink,
Director of Civil Enforcement, Antitrust Division.

[FR Doc. 2015-18579 Filed 7-28-15; 8:45 am]

BILLING CODE P